DEPARTMENT OF STATE

[Public Notice 8353]

Spectra Energy Corp., Application for a New or Amended Presidential Permit

June 7, 2013.

AGENCY: Department of State.

ACTION: Notice of Receipt of Spectra Energy Corp., Application for a New or Amended Presidential Permit for Express Pipeline LLC to Operate and Maintain Pipeline Facilities on the Border of the United States and Canada.

SUMMARY: Notice is hereby given that the Department of State (DOS) has received from Spectra Energy Corp (“Spectra Energy”) notice that it has acquired the entities that own Express Pipeline LLC (“Express”), which operates and maintains pipeline facilities including the Express Pipeline, which is permitted under a 2004 Presidential Permit issued to Express. Spectra Energy requests a new or amended Presidential Permit be issued reflecting these corporate transactions.

Spectra Energy owns and operates a large diversified portfolio of natural gas-related energy assets in the areas of gathering and processing, transmission, and distribution. Its natural gas pipeline systems consist of over 19,000 miles of transmission pipelines.

The Express Pipeline is a 515 mile, 24 inch crude oil pipeline running between the U.S.-Canada border near Wild Horse, Montana, to Caster, Wyoming and includes five pump stations. The Express Pipeline has been in operation since 1997 and transports crude oil from Hardisty, Alberta Canada to Casper, Wyoming.

On March 14, 2013, Spectra Energy (through its subsidiaries Spectra Energy Express (US) GP, LLC and Spectra Energy Express Holding, LLC) purchased all of the outstanding equity and debt interests in Express US Holdings LP. Immediately following these acquisitions, Spectra Energy became the 100 percent owner of the “upstream” entities that own Express and reorganized those entities, converting the direct parent corporation of Express into a limited liability corporation, Express Holdings (USA), LLC. Spectra plans to assign 40% of its ownership interests in Express Holdings (USA), LLC, to Spectra Energy Partners, LP, a publicly-traded master limited partnership. Spectra Energy has control over Spectra Energy Partners, LP; it indirectly owns 58% of the ownership interests in the limited partnership and also indirectly owns 100% of Spectra Energy Partners, LP's general partner, Spectra Energy Partners (DE) GP, LP.

Spectra affirms that operation and maintenance of the permitted facilities will remain substantially the same as before its acquisition of Express and acknowledges the Express is obligated to comply with the existing 2004 Permit. Spectra does not request any changes to the terms and conditions of the 2004 Permit.

Under E.O. 13337 the Secretary of State is designated and empowered to receive all applications for Presidential Permits for the construction, connection, operation, or maintenance at the borders of the United States, of facilities for the exportation or importation of liquid petroleum, petroleum products, or other non-gaseous fuels to or from a foreign country. The Department of State is circulating this application to concerned federal agencies for comment. The Department of State has the responsibility to determine whether issuance of a new or amended Presidential Permit in light of Spectra's acquisition of the entities that own Express would be in the U.S. national interest.

DATES: Interested parties are invited to submit comments within 30 days of the publication date of this notice by email to SpectraEnergypermit@state.gov with regard to whether issuing a new Presidential Permit reflecting the corporate succession would be in the national interest. The application is available at http://www.state.gov/e/enr.

FOR FURTHER INFORMATION CONTACT: Office of Energy Diplomacy, Energy Resources Bureau (ENR/EDP/EWA) Department of State 2201 C St. NW., Ste 4843 Washington, DC 20520 Attn: Michael Brennan Tel: 202-647-7553.

Dated: June 7, 2013.
Michael Brennan,
Office of Europe, Western Hemisphere and Africa, Bureau of Energy Resources, U.S. Department of State.

[FR Doc. 2013-14048 Filed 6-12-13; 8:45 am]

BILLING CODE 4710-09-P